DEPARTMENT OF THE INTERIOR

Bureau of Land Management

Notice of Availability of the Supplemental Environmental Impact Statement for Management of Port-Orford-Cedar in Southwest Oregon

AGENCIES: USDI, Bureau of Land Management.

ACTION: Notice of availability of the draft supplemental environmental impact statement (SEIS) for management of Port-Orford-cedar in Southwest Oregon.

SUMMARY: The Forest Service (FS) and Bureau of Land Management (BLM) (the Agencies) have prepared a Draft SEIS to supplement the analyses contained in the Final EIS for the Resource Management Plans for the Coos Bay, Medford, and Roseburg BLM Districts (1995) and the Land and Resource Management Plan for the Siskiyou National Forest (1988). These areas are located in southwest Oregon. The Draft SEIS is now available for public review.

DATES: Written comments on the Draft SEIS will be accepted for 90 days following the date that Environmental Protection Agency publishes their Notice of Availability of the Draft SEIS in the Federal Register. The Agencies ask that those submitting comments on the Draft SEIS make them as specific as possible, with reference to page numbers and chapters of the document, and meaningful so as to alert the agencies to the reviewer's position and contention.

ADDRESSES: If you wish to comment, you may submit your comments by any one of several methods. You may mail your comments to Port-Orford-cedar SEIS Team, PO Box 2965, Portland, OR 97208. You may also comment via e-mail to ORPOCEIS@or.blm.gov. Comments received in response to this solicitation, including names and home addresses, will be considered part of the public record on this proposal and are available for public review during regular business hours. Comments, including names and home addresses, may be published as part of the Final SEIS. Requests to receive copies of the Draft SEIS should be sent to the address listed above. Alternately, the Draft SEIS is available on the Internet at http://www.or.blm.gov/planning/Port-Orford-cedar_SEIS/. Copies are also available for inspection at Forest Service and BLM offices in southwestern Oregon and northwestern California. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. Comments submitted anonymously will be accepted and considered. Anonymous comments do not create standing or a record of participation. All submissions from organizations and business, and from individuals identifying themselves as representatives or officials of organizations or businesses, will be available for public inspection in their entirety.

FOR FURTHER INFORMATION CONTACT: Ken Denton, SEIS Team Leader, P.O. Box 2965, Portland, Oregon 97208, telephone (503) 326-2368.

SUPPLEMENTARY INFORMATION: The tree species Port-Orford-cedar is killed by an exotic root disease (Phytophthora lateralis) that is linked, at least in part, to transport of spore-infested soil by human and other vectors. Water-borne spores then readily spread the disease down slope and down stream.

Five alternatives are considered in detail in the Draft SEIS. Alternative 1, no action, continues the current direction of implementing available disease-management practices based on site-specific analysis. Alternative 2 specifically describes available control practices and adds a risk key to clarify the environmental conditions that require implementation of additional site-specific practices. Alternative 3 includes all elements of Alternative 2, and adds additional protections for 32 currently uninfested 6th-field watersheds. Alternative 4 removes existing disease management practices, but accelerates the resistant breeding program to provide resistant stock for all areas within 10 years. Alternative 5 also removes existing disease management practices, and stops development of resistant seed for remaining undeveloped breeding zones. The preferred alternative is Alternative 2. A decision to select one of the action alternatives would amend the management direction in the three BLM and one FS land and resource management plans and BLM resource management plans in the planning area.

The SEIS addresses deficiencies identified in a February 12, 2003 U.S. District Court decision, which held the Resource Management Plan Environmental Impact Statement for the Coos Bay District and a related project Environmental Assessment did not adequately analyze the cumulative effects of management activities on the health of Port-Orford-cedar outside the project area.

The analysis considers the entire natural range of Port-Orford-cedar, but only land and resource management plans within the Oregon portion of the range are proposed for amendment at this time.

The responsible official for lands administered by the Forest Service will be the Regional Forester, Region 6. The responsible official for public lands administered by the BLM will be the State Director, Oregon/Washington State Office.

No public hearings or meetings are planned.

Charles E. Wassinger,
Associate State Director, Oregon/Washington, Bureau of Land Management.

[FR Doc. 03-15119 Filed 6-12-03; 8:45 am]

BILLING CODE 4310-33-P